Executive Order 13154 of May 3, 2000

Establishing the Kosovo Campaign Medal

By the authority vested in me as President by the Constitution and the laws of the United States of America, including my authority as Commander in Chief of the Armed Forces of the United States, it is hereby ordered as follows:

Section 1. Kosovo Campaign Medal. There is hereby established the Kosovo Campaign Medal with suitable appurtenances. Except as limited in section 2 of this order, and under uniform regulations to be prescribed by the Secretaries of the Military Departments and approved by the Secretary of Defense, or under regulations to be prescribed by the Secretary of Transportation with respect to the Coast Guard when it is not operating as a service in the Navy, the Kosovo Campaign Medal shall be awarded to members of the Armed Forces of the United States who serve or have served in Kosovo or contiguous waters or airspace, as defined by such regulations, after March 24, 1999, and before a terminal date to be prescribed by the Secretary of Defense.

Sec. 2. Relationship to Other Awards. Notwithstanding section 3 of Executive Order 10977 of December 4, 1961, establishing the Armed Forces Expeditionary Medal and section 3 of Executive Order 12985 of January 11, 1996, establishing the Armed Forces Service Medal, any member who qualified for those medals by reasons of service in Kosovo between March 24, 1999, and May 1, 2000, shall remain qualified for those medals. Upon application, any such member may be awarded the Kosovo Campaign Medal in lieu of the Armed Forces Expeditionary Medal or the Armed Forces Service Medal, but no person may be awarded more than one of these three medals by reason of service in Kosovo, and no person shall be entitled to more than one award of the Kosovo Campaign Medal.

Sec. 3. Posthumous Award. The Kosovo Campaign Medal may be awarded posthumously to any person covered by and under regulations prescribed in accordance with the first section of this order.

wj

THE WHITE HOUSE,

May 3, 2000.

[FR Doc. 00-11532

Filed 5-4-00; 11:45 am]

Billing code 3195-01-P